DEPARTMENT OF VETERANS AFFAIRS

Joint Biomedical Laboratory Research and Development and Clinical Science Research and Development Services Scientific Merit Review Board; Notice of Meetings

The Department of Veterans Affairs gives notice under the Public Law 92-463 (Federal Advisory Committee Act) that the subcommittees of the Joint Biomedical Laboratory Research and Development and Clinical Science Research and Development Services Scientific Merit Review Board will meet from 8 a.m. to 5 p.m. as indicated below:

Subcommittee for | Date(s) | Location
Nephrology | November 6, 2006 | Beacon Hotel.
Surgery | November 13, 2006 | Embassy Suites Hotel.
Endocrinology-A | November 13-14, 2006 | Churchill Hotel.
Cellular & Molecular Medicine | November 15, 2006 | *VA Central Office.
Hematology | November 16, 2006 | *VA Central Office.
Immunology-A | November 16, 2006 | Holiday Inn Central.
Endocrinology-B | November 17, 2006 | Hotel Helix.
Neurobiology-D | November 17, 2006 | One Washington Circle.
Cardiovascular Studies-A | November 20, 2006 | Embassy Suites Hotel.
Mental Hlth & Behav Sciences-A | November 27, 2006 | DoubleTree Hotel.
Infectious Diseases-B | November 29, 2006 | DoubleTree Hotel.
Cardiovascular Studies-B | November 30, 2006 | *VA Central Office.
Gastroenterology | November 30, 2006 | Hotel Rouge.
Infectious Diseases-A | December 1, 2006 | *VA Central Office.
Neurobiology-A | December 4, 2006 | One Washington Circle.
Oncology-A | December 4-5, 2006 | Churchill Hotel.
Respiration | December 6, 2006 | Beacon Hotel.
Immunology-B | December 7, 2006 | Churchill Hotel.
Epidemiology | December 8, 2006 | *VA Central Office.
Neurobiology-E | December 11, 2006 | *VA Central Office.
Oncology-B | December 11-12, 2006 | St. Gregory Hotel.
Mental Hlth & Behav Sciences-B | December 13, 2006 | DoubleTree Hotel.
Neurobiology-C | December 14-15, 2006 | DoubleTree Hotel.
* Teleconference.

The addresses of the hotels and VA Central Office are:

Beacon Hotel & Corporate Quarters, 1615 Rhode Island Avenue, NW., Washington, DC; DoubleTree Hotel, 1515 Rhode Island Avenue, NW., Washington, DC; Embassy Suites Hotel, 4300 Military Road, NW., Washington, DC; Holiday Inn Central, 1501 Rhode Island Avenue, NW., Washington, DC; Hotel Helix, 1430 Rhode Island Avenue, NW., Washington, DC; Hotel Rouge, 1315-16th Street, NW., Washington, DC; One Washington Circle Hotel, One Washington Circle, NW., Washington, DC; St. Gregory Hotel, 2033 M Street, NW., Washington, DC; The Churchill Hotel, 1914 Connecticut Avenue, NW., Washington, DC; VA Central Office, 1722 Eye Street, NW., Washington, DC.

The purpose of the Merit Review Board is to provide advice on the scientific quality, budget, safety and mission relevance of investigator-initiated research proposals submitted for VA merit review consideration. Proposals submitted for review by the Board involve a wide range of medical specialties within the general areas of biomedical, behavioral and clinic science research.

The subcommittee meetings will be open to the public for approximately one hour at the start of each meeting to discuss the general status of the program. The remaining portion of each subcommittee meeting will be closed to the public for the review, discussion, and evaluation of initial and renewal projects.

The closed portion of each meeting involves discussion, examination, reference to staff and consultant critiques of research protocols. During this portion of each subcommittee meeting, discussion and recommendations will deal with qualifications of personnel conducting the studies, the disclosure of which would constitute a clearly unwarranted invasion of personal privacy, as well as research information, the premature disclosure of which could significantly frustrate implementation of proposed agency action regarding such research projects.

As provided by subsection 10(d) of Public Law 92-463, as amended, closing portions of these subcommittee meetings is in accordance with 5 U.S.C., 552b(c)(6) and (9)(B). Those who plan to attend or would like to obtain a copy of minutes of the subcommittee meetings and rosters of the members of the subcommittees should contact LeRoy G. Frey, PhD., Chief, Program Review (121F), Department of Veterans Affairs, 810 Vermont Avenue, NW., Washington, DC 20420 at (202) 254-0288.

Dated: October 11, 2006.
By Direction of the Secretary.
E. Philip Riggin,
Committee Management Officer.

[FR Doc. 06-8729 Filed 10-16-06; 8:45 am]

BILLING CODE 8320-01-M